DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 23, 2009. Address written comments to Statutory Import Programs Staff, Room 3720, U.S. Department of Commerce, Washington, D.C. 20230. Applications may be examined between 8:30 A.M. and 5:00 P.M. at the U.S. Department of Commerce in Room 3720.

Docket Number: 08-061. Applicant: California Association for Research in Astronomy dba W.M. Keck Observatory, 65-1120 Mamalahoa Highway, Kamuela, HI 96743. Instrument: Laser Launch Telescope Assembly (LTA). Manufacturer: Galileo Avionica, Italy. Intended Use: The LTA will be used as part of a Laser Guide Star Adaptive Optics System, which will measure and correct for the turbulence in the earth's atmosphere that causes a blurring of images or the “twinkling” of stars as viewed at nighttime. The LTA will act as a projection system to launch a laser beam onto a layer of sodium atoms in the mesosphere, around 90 km above the earth's surface, to provide a high quality “artificial star” in the atmosphere that will be used as a reference in measuring and correcting for the blurring effect. Justification for Duty-Free Entry: No US-manufactured instruments in the same general category as the foreign instrument for the intended use. Application accepted by Commissioner of Customs: January 6, 2009.

February 25, 2009.
Chris Cassel,
Acting Director, IA Subsidies Enforcement Office.

[FR Doc. E9-4468 Filed 3-2-09; 8:45 am]

BILLING CODE 3510-DS-S